DEPARTMENT OF TRANSPORTATION

Federal Aviation Administration

Seventh Meeting: RTCA Special Committee 221: Aircraft Secondary Barriers and Alternative Flight Deck Security Procedures

AGENCY: Federal Aviation Administration (FAA), DOT.

ACTION: Notice of RTCA Special Committee 221 meeting: Aircraft Secondary Barriers and Alternative Flight Deck Security Procedures.

SUMMARY: The FAA is issuing this notice to advise the public of a meeting of RTCA Special Committee 221: Aircraft Secondary Barriers and Alternative Flight Deck Security Procedures.

DATES: The meeting will be held September 14-15, 2010. September 14th from 12 p.m. to 5 p.m., September 15th from 9 a.m. to 5 p.m.

ADDRESSES: The meeting will be held at RTCA, Inc., Colson Board Room, 1828 L Street, NW., Suite 805, Washington, DC 20036.

FOR FURTHER INFORMATION CONTACT: RTCA Secretariat, 1828 L Street, NW., Suite 805, Washington, DC 20036; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a RTCA Special Committee 221: Aircraft Secondary Barriers and Alternative Flight Deck Security Procedures meeting. The agenda will include:

• Welcome/Introductions/Administrative Remarks.

• Approval of Summary of the Sixth Meeting held June 15-16, 2009, RTCA Paper No. 103-10/SC221-019.

• Leadership Comments.

• Review of Threat Work Group—Status Report.

• Review of Alternative Methods Work Group—Status Report.

• Review of Installed Physical Secondary Barrier (IPSB) Work Group—Status Report.

• Presentation/Discussion of SC-221 tentative conclusions, discussion of framework and content for final report.

• Discussion of Working Group reports: re-allocation of groups, capture learning points, discuss additional or follow-on goals.

• Approval and Tasking of Existing/Proposed Working Groups.

• Other Business—Including Proposed Agenda, Date and Place for Next Meeting.

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on August 18, 2010.
Robert L. Bostiga,
RTCA Advisory Committee.

[FR Doc. 2010-21212 Filed 8-25-10; 8:45 am]

BILLING CODE 4910-13-P